ENVIRONMENTAL PROTECTION AGENCY

[ER-FRL-6677-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060048, ERP No. D-FRC-K05061-CA, Lake Elsinore Advanced Pumped Storage (LEAPS) Project, Construction and Operation, Application for Hydroelectric License, Special-Use-Permit, FERC No. 11858, City of Lake Elsinore, Riverside County, CA.

Summary: EPA expressed concerns about the impacts to watershed resources, including water quality and riparian habitat, and to air quality. Rating EC2.

EIS No. 20060158, ERP No. D-SFW-E99015-AL, Gulf Highlands Condominium and Beach Club West Residential/ Recreational Condominium Projects, Application for Two Incidental Take Permits for the Construction and Occupancy, Fort Morgan Peninsula, Baldwin County, AL.

Summary: EPA does not object to the proposed action. Rating LO.

EIS No. 20060194, ERP No. D-AFS-J65464-00, Kootenai National Forest Invasive Plant Management, Proposes to Manage Noxious Weed and Invasive Plant Species, Lincoln Sanders, Flathead Counties, MT and Bonner and Boundary Counties, ID.

Summary: EPA expressed concern about herbicide transport to surface and groundwater. EPA requested the development of design criteria for herbicide application and a detailed monitoring plan. Rating EC2.

EIS No. 20060209, ERP No. D-NPS-D65037-PA, Flight 93 National Memorial, Designation of Crash Site to Commemorate the Passengers and Crew of Flight 93, Implementation, Stonycreek Township, Somerset County, PA.

Summary: EPA does not object to the proposed project. Rating LO.

Final EISs

EIS No. 20060191, ERP No. F-FAA-E51051-FL, Panama City-Bay County International Airport (PFN), Proposed Relocation to a New Site, NPDES Permit and U.S. Army COE Section 404 Permit, Bay County, FL.

Summary: EPA continues to have environmental concerns about wetland and secondary impacts and requested that the ROD include mitigation commitments to reduce those impacts.

EIS No. 20060201, ERP No. F-NRS-G31004-AR, Little Red River Irrigation Project, Develop a Water Management Plan for Irrigation Purposes in Seary, U.S. Army COE Section 404 Permit, Raft Creek, White County, AR.

Summary: No formal comment letter was sent to the preparing agency.

EIS No. 20060231, ERP No. F-IBR-G28013-NM, Carlsbad Project Water Operations and Water Supply Conservation, Changes in Carlsbad Project Operations and Implementation of Water Acquisition Program, U.S. COE Section 404 Permit, NPDES, Eddy, De Baca, Chaves, and Guadelupe Counties, NM.

Summary: No formal comment letter was sent to the preparing agency.

EIS No. 20060255, ERP No. F-NPS-H65026-IA, Hoover Creek Stream Management Plan, Implementation, Herbert Hoover National Historic Site, IA.

Summary: No formal comment letter was sent to the preparing agency.

Dated: July 18, 2006.
Ken Mittelholtz,
Environmental Protection Specialist, Office of Federal Activities.

[FR Doc. E6-11602 Filed 7-20-06; 8:45 am]

BILLING CODE 6560-50-P